SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: February 1-29, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22 (f) for the time period specified above.

Water Source Approval—Issued Under 18 CFR § 806.22(f)

1. RENEWAL—Chesapeake Appalachia, L.L.C.; Pad ID: Hurley Drilling Pad #1; ABR-201201040.R2; Cherry Township, Sullivan County, Pa.; Consumptive Use of Up to 7.5000 mgd; Approval Date: February 5, 2024.

2. RENEWAL—Chesapeake Appalachia, L.L.C.; Pad ID: Manahan; ABR-201201036.R2; Albany Township, Bradford County, Pa.; Consumptive Use of Up to 7.5000 mgd; Approval Date: February 5, 2024.

3. RENEWAL—Chesapeake Appalachia, L.L.C.; Pad ID: Messersmith; ABR-201201037.R2; Wilmot Township, Bradford County, Pa.; Consumptive Use of Up to 7.5000 mgd; Approval Date: February 5, 2024.

4. RENEWAL—Chesapeake Appalachia, L.L.C.; Pad ID: SGL289C; ABR-201201034.R2; West Burlington Township, Bradford County, Pa.; Consumptive Use of Up to 7.5000 mgd; Approval Date: February 5, 2024.

5. RENEWAL—Chesapeake Appalachia, L.L.C.; Pad ID: Warburton; ABR-201201033.R2; Forks Township, Sullivan County, Pa.; Consumptive Use of Up to 7.5000 mgd; Approval Date: February 5, 2024.

6. RENEWAL—Seneca Resources Company, LLC; Pad ID: My TB INV LLC 6076; ABR-201702001.R1; Deerfield Township, Tioga County, Pa.; Consumptive Use of Up to 4.0000 mgd; Approval Date: February 8, 2024.

7. RENEWAL—Seneca Resources Company, LLC; Pad ID: Rich Valley Pad F; ABR-201402002.R2; Shippen Township, Cameron County, Pa.; Consumptive Use of Up to 4.0000 mgd; Approval Date: February 8, 2024.

8. RENEWAL—Seneca Resources Company, LLC; Pad ID: Rich Valley Pad G; ABR-201402001.R2; Shippen Township, Cameron County, Pa.; Consumptive Use of Up to 4.0000 mgd; Approval Date: February 8, 2024.

9. RENEWAL—Range Resources—Appalachia, LLC; Pad ID: Cornwall 1H-5H; ABR-201402006.R2; Lewis Township, Lycoming County, Pa.; Consumptive Use of Up to 4.0000 mgd; Approval Date: February 13, 2024.

10. RENEWAL—Repsol Oil & Gas USA, LLC; Pad ID: COREY (07 089) J; ABR-201402008.R2; Choconut Township, Susquehanna County, Pa.; Consumptive Use of Up to 6.0000 mgd; Approval Date: February 13, 2024.

11. RENEWAL—Repsol Oil & Gas USA, LLC; Pad ID: KROPIEWNICKI (07 038) J; ABR-201402004.R2; Apolacon Township, Susquehanna County, Pa.; Consumptive Use of Up to 6.0000 mgd; Approval Date: February 13, 2024.

12. RENEWAL—Repsol Oil & Gas USA, LLC; Pad ID: YORK (07 088) R; ABR-201402005.R2; Little Meadows Borough, Susquehanna County, Pa.; Consumptive Use of Up to 6.0000 mgd; Approval Date: February 13, 2024.

13. RENEWAL—Chesapeake Appalachia, L.L.C.; Pad ID: Ferraro; ABR-201202007.R2; Terry Township, Bradford County, Pa.; Consumptive Use of Up to 7.5000 mgd; Approval Date: February 14, 2024.

14. RENEWAL—Chesapeake Appalachia, L.L.C.; Pad ID: Makayla; ABR-201202008.R2; Wilmot Township, Bradford County, Pa.; Consumptive Use of Up to 7.5000 mgd; Approval Date: February 14, 2024.

15. RENEWAL—Chesapeake Appalachia, L.L.C.; Pad ID: Schlapfer; ABR-201202006.R2; Albany Township, Bradford County, Pa.; Consumptive Use of Up to 7.5000 mgd; Approval Date: February 14, 2024.

16. RENEWAL—Chesapeake Appalachia, L.L.C.; Pad ID: Moyer; ABR-201202019.R2; Overton Township, Bradford County, Pa.; Consumptive Use of Up to 7.5000 mgd; Approval Date: February 19, 2024.

17. RENEWAL—Chesapeake Appalachia, L.L.C.; Pad ID: Yadpad; ABR-201202020.R2; Wilmot Township, Bradford County, Pa.; Consumptive Use of Up to 7.5000 mgd; Approval Date: February 19, 2024.

18. RENEWAL—Coterra Energy Inc.; Pad ID: Jeffers Farms P2; ABR-201702002.R1; Harford Township, Susquehanna County, Pa.; Consumptive Use of Up to 5.0000 mgd; Approval Date: February 19, 2024.

19. RENEWAL—Repsol Oil & Gas USA, LLC; Pad ID: CAPRIO (07 077) S; ABR-201402011.R2; Apolacon Township, Susquehanna County, Pa.; Consumptive Use of Up to 6.0000 mgd; Approval Date: February 19, 2024.

20. RENEWAL—SWN Production Company, LLC; Pad ID: RU-65-LEONARD-PAD; ABR-201402010.R2; Jackson Township, Susquehanna County, Pa.; Consumptive Use of Up to 4.9990 mgd; Approval Date: February 19, 2024.

21. RENEWAL—Chesapeake Appalachia, L.L.C.; Pad ID: HEMLOCK RIDGE ESTATES PAD; ABR-201902003.R1; McNett Township, Lycoming County, Pa.; Consumptive Use of Up to 7.5000 mgd; Approval Date: February 26, 2024.

22. RENEWAL—Coterra Energy Inc.; Pad ID: MakoskyT P1; ABR-201402012.R2; Brooklyn Township, Susquehanna County, Pa.; Consumptive Use of Up to 5.0000 mgd; Approval Date: February 26, 2024.

23. RENEWAL—Coterra Energy Inc.; Pad ID: MillardK P1; ABR-201402013.R2; Jessup Township, Susquehanna County, Pa.; Consumptive Use of Up to 5.0000 mgd; Approval Date: February 26, 2024.

24. Repsol Oil & Gas USA, LLC; Pad ID: DECRISTO (01-128); ABR-202402002; Sullivan Township, Tioga County, Pa.; Consumptive Use of Up to 6.0000 mgd; Approval Date: February 26, 2024.

25. RENEWAL—Chesapeake Appalachia, L.L.C.; Pad ID: Muzzy Drilling Pad #1; ABR-201202027.R2; Ulster Township, Bradford County, Pa.; Consumptive Use of Up to 7.5000 mgd; Approval Date: February 29, 2024.

26. RENEWAL—Seneca Resources Company, LLC; Pad ID: Kreitzer 505; ABR-201202030.R2; Rutland Township, Tioga County, Pa.; Consumptive Use of Up to 4.0000 mgd; Approval Date: February 29, 2024.

27. Repsol Oil & Gas USA, LLC; Pad ID: UPHAM (05-093); ABR-202402001; Pike Township, Bradford County, Pa.; Consumptive Use of Up to 6.0000 mgd; Approval Date: February 29, 2024.

Authority: Public Law 91-575, 84 Stat. 1509 et seq., 18 CFR parts 806 and 808.

Dated: March 7, 2024.
Jason E. Oyler,
General Counsel and Secretary to the Commission.

[FR Doc. 2024-05195 Filed 3-11-24; 8:45 am]

BILLING CODE 7040-01-P